DEPARTMENT OF DEFENSE

Department of the Navy

Notice of Availability for the Supplement to the Gulf of Alaska Navy Training Activities Draft Supplemental Environmental Impact Statement/Overseas Environmental Impact Statement

AGENCY: Department of the Navy (DoN), Department of Defense (DoD).

ACTION: Notice.

SUMMARY: The Department of the Navy (DoN) has prepared and filed with the U.S. Environmental Protection Agency (EPA) a supplement to the December 2020 Gulf of Alaska (GOA) Navy Training Activities Draft Supplemental Environmental Impact Statement (EIS)/Overseas Environmental Impact Statement (OEIS). This supplement to the Draft Supplemental EIS/OEIS will address a change in the Study Area and the addition of a new Continental Shelf and Slope Mitigation Area.

DATES: The supplement to the Draft Supplemental EIS public review period will begin March 18, 2022, and end on May 2, 2022. Comments may be submitted by U.S. mail or electronically via the project website as detailed below.

ADDRESSES: Naval Facilities Engineering Command, Northwest, Attention: GOA Supplemental EIS/OEIS Project Manager, 1101 Tautog Circle, Suite 203, Silverdale, Washington 98315-1101, projectmanager@goaeis.com.

Written comments can be submitted via the electronic comment form at http://www.GOAEIS.com or by mailing them to: Naval Facilities Engineering Systems Command Northwest, Attention: GOA Supplemental EIS/OEIS Project Manager, 1101 Tautog Circle, Suite 203, Silverdale, WA 98315-1101. All comments must be received or postmarked by May 2, 2022, to ensure they become part of the official record.

SUPPLEMENTARY INFORMATION: With the filing of the supplement to the Draft Supplemental EIS/OEIS, the DoN is initiating a 45-day public comment period. Federal, state, and local agencies and interested parties are encouraged to provide written comments on the supplement to the Draft Supplemental EIS anytime during the public comment period. This notice announces the opportunity to review and comment on the Draft Supplemental EIS, and provides supplementary information about the environmental planning effort.

All comments submitted during the public review period will become part of the public record and will be responded to in the Final Supplemental EIS/OEIS. All public comments received during the Draft Supplemental EIS/OEIS comment period (December 11, 2020, through February 16, 2021) are still valid and will be considered in the Final Supplemental EIS/OEIS for this action. Previously submitted comments need not be resubmitted.

Pursuant to section 102(2)(c) of the NEPA, regulations implemented by the Council on Environmental Quality (40 CFR parts 1500-1508), and Presidential Executive Order 12114, the DoN announced its intent to prepare a supplement to the 2011 GOA Navy Training Activities EIS/OEIS and 2016 GOA Navy Training Activities Supplemental EIS/OEIS in the Federal Register (FR) on February 10, 2020 (85 FR 7538), and invited the public to comment on the scope of the Supplemental EIS/OEIS. A Draft Supplemental EIS/OEIS was subsequently released on December 11, 2020 (85 FR 80093), in which the potential environmental effects associated with military readiness training activities conducted within the GOA Study Area were evaluated.

Since the release of the Draft Supplemental EIS/OEIS on December 11, 2020, the DoN recognized that the size and shape of the Temporary Maritime Activities Area (TMAA) in the Gulf of Alaska no longer provides sufficient space for the realistic maneuvering of vessels and aircraft during training exercises. The DoN announced its intent to prepare a supplement to the December 2020 GOA Navy Training Activities Draft Supplemental EIS/OEIS on February 1, 2022 (87 FR 5472). Proposed changes to the Study Area include additional airspace and sea space to the west and south of the TMAA. The area is referred to as the Western Maneuver Area and adds approximately 185,806 square nautical miles to the Study Area. This additional space would enable Navy personnel and units to practice more realistic, complex training scenarios in a safer, more efficient manner that would better prepare them to respond to real-world incidents. The TMAA (approximately 42,146 square nautical miles) would remain unchanged and any activities involving active sonar or explosives would, as in the past, occur in this area only. The DoN is not proposing new or increased number of training activities in the Western Maneuver Area, only an expansion of the area the Navy may use for vessel and aircraft maneuvering purposes during exercises. The number of vessels, aircraft, underway steaming hours, events, and flight times remains the same. Although the Study Area has expanded, the conclusions regarding potential impacts have not significantly changed from the 2020 Draft Supplemental EIS/OEIS.

In direct response to agency, tribal, and public comments, the DoN also proposes implementing a new mitigation area within the continental shelf and slope area of the TMAA (approximately 14,600 square nautical miles). The DoN would expand its mitigation measures for explosives detonated at or near the surface and prohibit the use of explosives during training (up to 10,000 feet altitude) in areas of less than 4,000 meter depth to protect marine species and biologically important habitat. The DoN anticipates the implementation of the proposed mitigation area would reduce impacts on marine mammals, fish, and marine birds.

Dated: March 14, 2022.
J.M. Pike,
Commander, Judge Advocate General's Corps, U.S. Navy, Federal Register Liaison Officer.

[FR Doc. 2022-05655 Filed 3-17-22; 8:45 am]

BILLING CODE 3810-FF-P